NATIONAL ARCHIVES AND RECORDS ADMINISTRATION

[NARA-2014-055]

Records Management; General Records Schedules (GRS); GRS Transmittal

AGENCY: National Archives and Records Administration (NARA).

ACTION: Notice of new General Records Schedules (GRS) Transmittal 23.

SUMMARY: NARA is providing notice that it is issuing a new General Records Schedules (GRS) Transmittal. The GRS provides mandatory disposition instructions for administrative records common to several or all Federal agencies. Transmittal 23 announces changes to the GRS made since Transmittal 22 was published in April 2010. NARA is completely rewriting the GRS over the course of a five-year project. The master plan for that project was published in 2013 under records management memo AC 02.2013 (http://www.archives.gov/records-mgmt/memos/ac02-2013.html). The plan has since morphed in some details but its major outlines remain solid. Transmittal 23 is the first installment of the new GRS.

DATES: This document is effective on the date of publication in the Federal Register.

FOR FURTHER INFORMATION CONTACT: For information about this notice or to obtain non-electronic copies of the GRS, contact Kimberly Keravuori, Agency Regulations Program Manager, at regulations_comments@nara.gov, or by telephone at 301.837.3151.

You may contact NARA's GRS Team (within Records Management Services in the National Records Management Program, Office of the Chief Records Officer) with general questions about the GRS at GRS_Team@nara.gov.

Your agency's records officer may contact the NARA appraiser or records analyst with whom your agency normally works for support in carrying out this transmittal. A list of the appraisal and scheduling work group and regional contacts is posted on the NARA Web site at http://www.archives.gov/records-mgmt/appraisal/index.html.

SUPPLEMENTARY INFORMATION:

What is GRS Transmittal 23 and how do I use it?

GRS Transmittal 23, disseminated to all agencies' records management officials and posted on NARA's Web site at http://www.archives.gov/records-mgmt/grs/, contains:

• Five new schedules, each with schedule-specific FAQs and a crosswalk from new to old schedules

• old schedules annotated to show which items are still authoritative and which are superseded by items in new schedules

• a crosswalk for old to new GRS items

• four FAQ documents (general; about the GRS Update Project; about the impact of the new GRS on agencies; and about how, when, and the process by which agencies may deviate from the GRS), and

• a checklist for implementing the new GRS, to assist agencies in completing all the actions this Transmittal requires.

What changes have been made to the GRS?

Transmittal 23 publishes five new schedules:

GRS 1.1 Financial Management and Reporting Records (DAA-GRS-2013-0003)

GRS 1.2 Grant and Cooperative Agreement Records (DAA-GRS-2013-0008)

GRS 3.1 General Technology Management Records (DAA-GRS-2013-0005)

GRS 3.2 IT Systems Security (DAA-GRS-2013-0006)

GRS 4.3 Input Records, Output Records, and Electronic Copies (DAA-GRS-2013-0001)

These schedules replace portions of old GRS 3, 4, 6, 7, 8, 9, 12, 16, 20, 23, and 24.

The most obvious changes are in format:

| Old GRS | New GRS
Schedule numbers | Simple succession: 1, 2, 3, etc | Decimal: 1.1, 1.2, 1.3, etc. Schedules of related topics are linked by sharing the same number to the left of the decimal point but differentiated by the number to the right of the decimal point.
Item numbers | Alpha-numeric hierarchy, for instance 1a1, 1a2, 2a1a, 2a2b | Three digits, for instance 010, 020, 030. Closely related items sharing some description in common are numbered in immediate succession, such as 030, 031, 032, etc.
Layout | Narrative paragraphs. Read “down” to go from records description to records disposition | Table. Read “across” to go from records description to records disposition.
Subject Index | Index was last updated in 2008. Even then, it was not thorough, and its usefulness was linked to paper format | No index. Citations to new GRS items are not included in the current index, which will be phased out over time. Search for key words in pdf file instead.

Because the entire change from old to new is taking place gradually over five years, the GRS during this interim period will necessarily include both old and new formats. New schedules (decimal numbers, table format) come first in the new transmittal, followed by the old schedules (“straight” numbers, narrative format) annotated to show which items are still current and which have been superseded by new schedules.

What GRS items are rescinded by Transmittal 23?

Many old GRS items are superseded by new GRS items. A few old items, however, have outlived their usefulness and cannot be crosswalked to new items. Therefore, these items are rescinded by Transmittal 23. Full explanation of why items have been rescinded is discussed in the FAQs for the new schedule to which they are most closely related.

GRS | Items | Title | FAQ in which discussed
3 | 3b | Obligation copy of routine procurement files | 1.1
3 | 15a | Contract appeal case files prior to October 1979 | 1.1
3 | 16 | Contractor's statement of contingent or other fees | 1.1
6 | 2 | GAO exceptions | 1.1
6 | 6a1-6a2 | Federal personnel surety bonds | 1.1
6 | 6b | Other bonds | 1.1
6 | 9 | Telegrams supporting telegraph bills | 1.1
8 | 7b1-7b3 | Cost report data files | 1.1
20 | 2a1-2a3 | Input/source records: Certain hard copy records | 4.3
20 | 3a, 3b1-3b5 | Electronic records replacing temporary hard copy records | 4.3
20 | 3.1 | Electronic records replacing permanent hard copy records | 4.3

Rescinded items are shown in context of their schedules in the old-to-new crosswalk.

How do I cite new GRS items?

When you send records to a Federal Records Center for storage, you should cite its legal authority: The “DAA” number in the “Disposition Authority” column of the table. For instance: DAA-GRS-2013-0001-0004. For informal purposes, cite by schedule and item number. The above DAA number equates to “GRS 4.3, item 020.”

Do I have to take any action to implement these GRS changes?

NARA regulations (36 CFR 1226.12(a)) require agencies to disseminate GRS changes within 6 months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this Transmittal.

If you do not have an already existing agency-specific authority but wish to apply a retention period that differs from that specified in the GRS, you must create a records schedule in the Electronic Records Archives and submit it to NARA for approval.

How do I get copies of the new GRS?

The complete current GRS, in PDF format, can be downloaded from NARA's Web site at http://www.archives/gov/records-mgmt/grs/index.html.

Dated: September 4, 2014.
David S. Ferriero,
Archivist of the United States.

[FR Doc. 2014-21756 Filed 9-11-14; 8:45 am]

BILLING CODE 7515-01-P